DEPARTMENT OF ENERGY

Federal Energy Regulatory Commission

Combined Notice of Filings #2

Take notice that the Commission received the following electric rate filings:

Docket Numbers: ER10-1946-010; ER10-3310-008; ER10-3286-008; ER10-3299-007; ER13-1485-004; ER10-3253-004; ER14-1777-003; ER10-3237-004; ER10-3240-004; ER10-3230-004; ER10-3231-003; ER10-3232-002; ER10-3233-003; ER10-3239-004.

Applicants: Broad River Energy LLC, New Harquahala Generating Company, LLC, Millennium Power Partners, L.P., New Athens Generating Company, LLC, Wheelabrator Baltimore, L.P., Wheelabrator Bridgeport, L.P., Wheelabrator Falls Inc., Wheelabrator Frackville Energy Company Inc., Wheelabrator North Andover Inc., Wheelabrator Portsmouth Inc., Wheelabrator Ridge Energy Inc., Wheelabrator Shasta Energy Company Inc., Wheelabrator South Broward Inc., Wheelabrator Westchester, L.P.

Description: Notice of Change in Status of the ECP-Affiliated MBR Sellers.

Filed Date: 4/8/15.

Accession Number: 20150408-5162.

Comments Due: 5 p.m. ET 4/29/15.

Docket Numbers: ER15-1475-000.

Applicants: North Star Solar, LLC.

Description: Initial rate filing per 35.12 Application for Initial Market-Based Rate Tariff and Granting Certain Waivers to be effective 4/9/201.

Filed Date: 4/8/15.

Accession Number: 20150408-5142.

Comments Due: 5 p.m. ET 4/29/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 8, 2015.
Nathaniel J. Davis, Sr.,
Deputy Secretary.

[FR Doc. 2015-08516 Filed 4-13-15; 8:45 am]

BILLING CODE 6717-01-P